DEPARTMENT OF HEALTH AND HUMAN SERVICES

Administration for Children and Families

Submission for OMB Review; Comment Request

Title: Head Start Family and Child Experiences Survey (FACES).

OMB No.: 0970-0151.

Description: The Office of Planning, Research and Evaluation (OPRE), Administration for Children and Families (ACF), U.S. Department of Health and Human Services (HHS), is proposing to collect data for a new round of the Head Start Family and Child Experiences Survey (FACES). Featuring a new “Core Plus” study design, FACES will provide data on a set of key indicators, including information for performance measures. The design allows for more rapid and frequent data reporting (Core studies) and serves as a vehicle for studying more complex issues and topics in greater detail and with increased efficiency (Plus studies).

The FACES Core study will assess the school readiness skills of Head Start children, survey their parents, and ask their Head Start teachers to rate children's social and emotional skills.

In addition, FACES will include observations in Head Start classrooms, and program director, center director, and teacher surveys. FACES Plus studies include additional survey content of policy or programmatic interest, and may include additional programs or respondents beyond those participating in the Core FACES study.

Previous notices provided the opportunity for public comment on the proposed Head Start program recruitment and center selection process (FR V.78, pg.75569 12/12/2013; FR V.79, pg.8461 02/12/2014), the child-level data collection in fall 2014 and spring 2015 (FR V. 79, pg. 11445 02/28/2014; FR V. 79; pg. 27620 5/14/2014), the program- and classroom-level spring 2015 data collection activities (FR v.79; pg. 73077 12/09/2014), the American Indian and Alaska Native Head Start Family and Child Experiences Survey (AI/AN FACES) child-level data collection activities in fall 2015 and spring 2016 (FR V. 80, pg. 30250 08/07/2015) and AI/AN FACES program- and classroom-level spring 2016 data collection activities (FR V. 80, pg 70231 11/13/2015).

This 30-day notice describes the planned additional data collection activities for FACES program- and classroom-level data collection in spring 2017. Spring 2017 data collection includes site visits to 360 centers in 180 Head Start programs. As in spring 2015, for the Core study teachers, program directors, and center directors will each complete surveys, approximately 25 to 30 minutes in length. Two Plus studies are planned related to program functioning for spring 2017. First, program and center directors in all 180 programs (and 360 centers) will complete a 5-minute survey on how programs are planning for implementing the new Head Start program performance standards. Second, all 720 teachers will complete a survey on program functioning, initially piloted in spring 2015.

The purpose of the Core data collection is to support the 2007 reauthorization of the Head Start program (Pub. L. 110-134), which calls for periodic assessments of Head Start's quality and effectiveness. As additional information collection activities are fully developed, in a manner consistent with the description provided in the 60-day notice (79 FR 11445) and prior to use, we will submit these materials for a 30-day public comment period under the Paperwork Reduction Act.

Respondents: Head Start teachers and Head Start directors.

Annual Burden Estimates—Current Information Collection Request
Instrument | Total number of respondents | Annual number of respondents | Number of responses per respondent | Average burden hour per response | Estimated annual burden hours
Classroom sampling form from Head Start staff | 360 | 120 | 1 | 0.17 | 20
Head Start core teacher survey | 720 | 240 | 1 | 0.50 | 120
Head Start core program director survey | 180 | 60 | 1 | 0.50 | 30
Head Start core center director survey | 360 | 120 | 1 | 0.42 | 50
Early care and education administrators survey for Plus study (Head Start Program Performance Standards) | 540 | 180 | 1 | 0.08 | 14
Early care and education providers survey for Plus study (5E—Early Ed) | 720 | 240 | 1 | 0.17 | 41
Total |  |  |  |  | 275

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: OIRA_SUBMISSION@OMB.EOP.GOV, Attn: Desk Officer for the Administration for Children and Families.

Mary Jones,
ACF/OPRE Reports Clearance Officer.

[FR Doc. 2016-29373 Filed 12-7-16; 8:45 am]

BILLING CODE 4184-22-P